FEDERAL MARITIME COMMISSION

Performance Review Board

AGENCY: Federal Maritime Commission.

ACTION: Notice.

SUMMARY: Notice is hereby given of the names of the members of the Performance Review Board.

FOR FURTHER INFORMATION CONTACT: Courtney Killion, Director, Office of Human Resources, Federal Maritime Commission, 800 North Capitol Street NW, Washington, DC 20573.

SUPPLEMENTARY INFORMATION: Sec. 4314(c) (1) through (5) of title 5, U.S.C., requires each agency to establish, in accordance with regulations prescribed by the Office of Personnel Management, one or more performance review boards. The board shall review and evaluate the initial appraisal of a senior executive's performance by the supervisor, along with any recommendations to the appointing authority relative to the performance of the senior executive.

William Cody,
Secretary.

The Members of the Performance Review Board Are

1. Max Vekich, Commissioner

2. Mary T. Hoang, Chief of Staff

3. Kristen A. Monaco, Director, Bureau of Trade Analysis

4. Lucille L. Marvin, Managing Director

5. Patrick M. Moore, Director, Enterprise Services

6. Erin M. Wirth, Chief Administrative Law Judge

[FR Doc. 2022-15403 Filed 7-18-22; 8:45 am]

BILLING CODE 6730-02-P